ENVIRONMENTAL PROTECTION AGENCY

[EPA-HQ-SFUND-2006-0361; FRL-8985-7]

Emergency Planning and Community Right-to-Know Act; Contractor Access to Trade Secrets and Address Change for Submitting Trade Secret Claims

AGENCY: Environmental Protection Agency (EPA).

ACTION: Notice.

SUMMARY: The EPA has authorized the following contractor to access trade secret information that has been, or will be, submitted to EPA under sections 303, 311 and 312 of the Emergency Planning and Community Right-to-Know Act (EPCRA): CGI Federal, Inc. and its subcontractor, Management Support Technology, Inc. (MSTI), (GSA Contract #GS-35F4797H TO#1518, expiring March 30, 2012). The EPA also announces a new address to which EPCRA trade secrets are to be sent.

DATES: This new address is effective on November 25, 2009.

ADDRESSES: EPCRA Trade Secrets submitted to EPA should be mailed to: CGI Federal, c/o CDX Reporting Center, P.O. 10162, Fairfax, VA 22038. Courier deliveries and express mail should be addressed to: CDX Reporting Center, c/o CGI Federal, 12601 Fair Lakes Circle, Fairfax, VA 22033.

FOR FURTHER INFORMATION CONTACT: Sicy Jacob at (202) 564-8019.

SUPPLEMENTARY INFORMATION: The EPA is issuing this notice to inform all submitters of trade secret claims submitted under sections 303, 311 and 312 of EPCRA that EPA may provide the above mentioned contractor and its subcontractor access to these materials on a need-to-know basis. This contractor will provide technical support to the Office of Emergency Management in the receipt, processing and storage of these trade secret claims submitted to EPA. In accordance with 40 CFR 350.23, EPA has determined that the contractor and its subcontractor require access to trade secret and confidential information submitted to EPA under 40 CFR part 350 in order to perform work satisfactorily under the above noted contract. The contractor's and subcontractor's personnel will be required to sign nondisclosure agreements prior to receiving access to trade secrets. All contractor access to trade secrets will take place at the contractor's facility. The contractor will have appropriate procedures and facilities in place to safeguard the trade secrets to which the contractor and its subcontractor have access. Clearance for access to trade secrets is scheduled to expire on March 30, 2012 or at contract termination.

EPCRA Trade Secrets submitted to EPA should be mailed to: CGI Federal, c/o CDX Reporting Center, P.O. 10162, Fairfax, VA 22038. Courier deliveries and express mail should be addressed to: CDX Reporting Center, c/o CGI Federal, 12601 Fair Lakes Circle, Fairfax, VA 22033.

Dated: November 16, 2009.
Deborah Y. Dietrich,
Director, Office of Emergency Management.

[FR Doc. E9-28288 Filed 11-24-09; 8:45 am]

BILLING CODE 6560-50-P